NATIONAL SCIENCE FOUNDATION

Research Performance Progress Report Format

AGENCY: National Science Foundation (NSF).

ACTION: Request for public comment on a standardized Research Performance Progress Report (RPPR) format.

SUMMARY: The National Science Foundation (NSF), on behalf of the Chief Financial Officers Council's Grants Policy Committee, the Grants.gov Executive Board, and the National Science & Technology Council's Research Business Models Subcommittee, is soliciting public comment on a standardized Research Performance Progress Report (RPPR) format. The NSF has agreed to serve as the “sponsor” of this Federal-wide format for receipt of comments under this interagency initiative.

Development of a standardized RPPR is an initiative of the Research Business Models (RBM) Subcommittee of the Committee on Science (CoS), a Committee of the National Science and Technology Council (NSTC). It is also part of the implementation of the Federal Financial Assistance Management Improvement Act of 1999 (Pub. L. 106-107). Consistent with the purposes of that Act, the objective of this initiative is to establish a uniform format for reporting performance on Federally-funded research projects. Although different Federal agencies utilize a variety of formats for reporting progress on activities supported by research grants, similar information is usually collected. These variations increase administrative effort and costs for recipients of Federal awards and make it difficult to compare research programs across government. Development of standard reporting categories will facilitate the development of a common electronic solution for collecting the information in lieu of collecting it through numerous agency-unique reporting forms currently used. In furtherance of Public Law 106-107, this proposed format will directly benefit award recipients by making it easier for recipients to administer Federal grant programs through standardization of the types of research information required in performance reports. This proposed format is for interim progress reports only, and once implemented, it is intended to replace other formats. The NSTC RBM Subcommittee may consider a similar format for final reports, subsequent to this RPPR initiative. Agencies may use other OMB-approved reporting formats for specialized research grants, such as centers/institutes, clinical trials, or fellowship/training awards.

Each category is in the proposed RPPR is a separate reporting component. Award recipients would be required to report on the mandatory category and may be required to report on the mandatory category and may be required to report on any of the optional categories as instructed by an awarding agency. Agencies may develop an agency- or program-specific category, if necessary, to meet programmatic requirements, although agencies would be instructed to minimize the degree to which they supplement the standard categories. Comment is requested on any aspect of the reporting components proposed, such as appropriateness, feasibility, completeness, or mandatory specification. The NSF also invites the general public and other Federal agencies to comment on estimates of burden as required by the Paperwork Reduction Act of 1995 (PRA).

DATES: Comments must be received by January 8, 2008.

ADDRESSES: Comments should be addressed to Suzanne H. Plimpton, Reports Clearance Officer, Division of Administrative Services, National Science Foundation, 4201 Wilson Blvd, Arlington, VA 22230, e-mail splimpton@nsf.gov; telephone: (703) 292-7556; Fax (703) 292-9188. We encourage respondents to submit comments electronically to ensure timely receipt. We cannot guarantee that comments mailed will be received before the comment closing date. Please include “Research Performance Progress Reporting” in the subject line of the e-mail message; please also include in the full body of your comments in the text of the message and as an attachment. Include your name, title, organization, postal address, telephone number, and e-mail address in your message.

FOR FURTHER INFORMATION CONTACT: To view the RPPR format, see: http://www.nsf.gov/bfa/dias/policy/rppr/index.jsp. For information on the RPPR, contact Jean Feldman, Head, Policy Office, Division of Institution & Support, National Science Foundation, 4201 Wilson Blvd, Arlington, VA, 22230, e-mail: jfeldman@nsf.gov; telephone (703) 292-8243; Fax: (703) 292-9171. For further information on the NSTC RBM Subcommittee, contact Diane DiEuliis, at the Office of Science and Technology Policy, 725 17th Street, NW., Washington, DC 20503; e-mail: ddieuliis@ostp.eop.gov; telephone 202-456-6059; Fax 202-456-6027. See also the RBM Subcommittee's Internet Web site located at: http://rbm.nih.gov.

SUPPLEMENTARY INFORMATION:

I. Background

This project is an initiative of the Research Business Models (RBM) Subcommittee of the Committee on Science (COS), a committee of the National Science and Technology Council (NSTC). The RBM Subcommittee's objectives include:

• Facilitating a coordinated effort across Federal agencies to address policy implications arising from the changing nature of scientific research; and

• Examining the effects of these changes on business models for the conduct of scientific research sponsored by the Federal government.

The Subcommittee used public comments, agency perspectives, and input from a series of regional public meetings to identify priority areas on which it would focus its initial efforts. In each priority area, the Subcommittee is pursuing initiatives to promote, as appropriate, common policy, streamlining of current procedures, or the identification of agencies' and institutions' “best practices.” As further information about initiatives becomes available, it will be posted at the Subcommittee's Internet Web site: http://rbm.nih.gov.

The objective of one of the RBM Subcommittee's priority areas is greater uniformity in the form and content of performance reports that are required by Federal grants and cooperative agreements awarded under research programs. Many Federal agencies have their own forms or formats that recipients must use to report progress on activities supported by research grants. While agencies use different formats and different language to request information on progress, they usually collect similar information. These variations increase the administrative effort and costs for recipients of Federal awards and make it difficult to compare research programs across the government. In furtherance of Pub. L. 106-107, this proposed format will directly benefit recipients by making it easier to administer Federal grant programs, through standardization of the types of research information required in performance reports. It will also facilitate the creation of a common electronic solution for collecting the information in lieu of collecting it through the numerous agency-unique reporting forms or systems currently used by different Federal agencies. The RBM Subcommittee reviewed all formats currently in use by Federal agencies for reporting performance on research grants. The reporting categories used by the NSF were selected as a starting point for designing a standard format, as hundreds of NSF research programs have used these categories successfully. The proposed format does not change the performance reporting requirements in OMB Circulars A-102 and A-110; it merely provides additional clarification, instructions, and a standard format for collecting the information.

This proposed format is intended for interim progress reports, not for use in submission of final reports (see section III. Invitation to Comment below), and once implemented, it is intended to replace other formats. The RPPR is intended to address progress for the most recently completed period, at the frequency required or designated by the sponsoring agency. Information, once reported, does not have to be provided again on subsequent reports.

II. Proposed Reporting Categories

The proposed format for interim performance progress reporting on grants and cooperative agreements awarded under research programs are available on the NSF Web site at: http://www.nsf.gov/bfa/dias/policy/rppr/index.jsp. These include the cover page data elements, the mandatory and optional categories for reporting, and associated instructions.

Each of the categories specified is a separate reporting component. Federal agencies will direct recipients to report on the mandatory category and may also require reporting on optional categories, as appropriate. Recipients will not be required or expected to report on each of the questions or items listed under a particular category. They will be advised to state “None” or “Nothing to report” if they have nothing significant to report.

Agencies will utilize the standard instructions that have been developed for each category, but may provide additional program-specific instructions necessary to clarify a requirement for a particular program. For example, the Environmental Protection Agency (EPA) is required to collect information on environmental impacts; so under the following reporting question: “How has the project contributed to society beyond science and technology?”, the EPA can direct recipients to specifically report on the research's benefit or impact to the environment.

Agencies also may develop additional agency- or program-specific reporting categories and instructions (e.g., the National Institutes of Health may need to collect additional information on clinical trial awards); however, to maintain maximum uniformity, agencies will be instructed to minimize the degree to which they supplement the standard categories.

III. Invitation to Comment

Input is welcome on any aspect of the proposed standard reporting categories. Questions that individuals may wish to address include, but are not limited to, the following:

• Are the categories and the elements appropriate?

• Are there other elements that should be included under the reporting categories?

• Should other categories be mandatory?

• Are the instructions straightforward and easy to understand?

• Should agencies defer final implementation until there is a common solution for collecting the information electronically? Should agencies use a downloadable fillable form or web-based form to report progress?

• The RBM Subcommittee may consider using this format for final reports as well as progress reports. Is this proposed format appropriate for a final report? If so, should recipients be directed to provide summary information for the entire project period, or just for the last period? If not, what information should be included in a final report?

IV. Paperwork Reduction Act

In furtherance of Pub. L. 106-107, and its goal of streamlining the Federal grant process, this proposed format will reduce the burden on recipients currently expending time and effort on a variety of agency-specific forms. Under the Paperwork Reduction Act (PRA), OMB assigns a control number to each “collection of information” that it reviews and approves for use by an agency. An agency may not conduct or sponsor, and a person is not required to respond to, a collection of information unless the collection of information displays a valid OMB Control Number. The PRA also requires agencies to estimate the burden for each collection of information. Given that this reporting format has not yet been utilized by Federal recipients to report progress on research awards, it is difficult to estimate the burden hours associated with this information collection at this time. Also, because individual components of the proposed RPPR are in a new format, burden hours per component are uncertain. Depending on which optional components agencies select in addition to the mandatory component, however, burden hours may be estimated within a range. It should be noted that burden estimates associated with forms currently in use range from a minimum of 5 hours to a maximum of 16 hours, depending on the type of research project being supported.

Proposed PRA Submission to OMB

Title: Research Performance Progress Report (RPPR).

OMB Number: 4040-NEW.

Abstract: The Research Performance Progress Report (RPPR) will establish a uniform format for reporting performance on Federally-funded research projects.

Type of Review: New Collection.

Affected Public: Public or private institutions, such as universities, colleges, hospitals, and laboratories; units of state and local government; domestic or foreign non-profit and for-profit organizations; and eligible agencies of the Federal government. Note that affected public will vary depending on individual agency and the type of research being supported.

Estimated Number of Respondents: The number of Annual Project Reports that NSF received from 10-01-2006 through 9-30-2007 was 24,603.

Total Estimated Time: The burden imposed by various agencies will depend on the number of respondents using the collection for their programs.

Estimated Time per Respondent: Estimated time per respondent may range from 5 to 16 hours depending on the type of research being supported.

Total Estimated Out-of-Pocket Costs:

Estimated Out-of-Pocket Cost per Respondent: Agencies and the public are asked to comment on:

• Whether the collection of information is necessary for the proper performance of the functions of the agency, including whether the information will have practical utility;

• The accuracy of the agency's estimate of the burden of the collection of information;

• Ways to enhance the quality, utility, and clarity of the information to be collected;

• Ways to minimize the burden of the collection of information on respondents, including through the use of automated collection techniques or other forms of information technology; and

• Estimates of capital or start-up costs and costs of operation, maintenance, and purchase of services to provide information.

Prior to submission of the information collection request to OMB for final clearance, however, specific burden hours associated with interim progress reporting will be reported by agencies. Comments submitted in response to this notice will be summarized and/or included in the request for OMB approval.

Dated: November 6, 2007.
Suzanne H. Plimpton,
Reports Clearance Officer, National Science Foundation.

[FR Doc. 07-5601 Filed 11-8-07; 8:45 am]

BILLING CODE 7555-01-M